DEPARTMENT OF COMMERCE

International Trade Administration

[A-823-808]

Certain Cut-to-Length Carbon Steel Plate From Ukraine; Final Results of Administrative Review of the Suspension Agreement and Determination Not To Terminate

AGENCY: Import Administration, International Trade Administration, Department of Commerce.

ACTION: Notice of Final Results of the Administrative Review of the Suspension Agreement on Certain Cut-to-Length Carbon Steel Plate from Ukraine and Determination Not to Terminate.

SUMMARY: On December 9, 2002, the Department of Commerce (the Department) published the preliminary results of administrative review of the suspension agreement on certain cut-to-length carbon steel plate from Ukraine (the Agreement). See Notice of Preliminary Results of the Administrative Review of the Suspension Agreement on Certain Cut-to-Length Carbon Steel Plate from Ukraine, 67 FR 72916 (December 9, 2002) (Preliminary Results). The merchandise covered by this administrative review is certain cut-to-length carbon steel plate as described in the “Scope of the Review” section of this Federal Register notice. The period of review (POR) is November 1, 2000 through October 31, 2001. In these final results, we have determined that Azovstal Iron and Steel Works (Azovstal), Ilyich Iron and Steel Works (Ilyich), and the Government of Ukraine (collectively, respondents) have complied with the terms of the Agreement. However, we are not terminating the Agreement or the underlying investigation, pursuant to section 351.222(b)(1)(i)(B) of the Department's regulations, because the continued maintenance of the Agreement is necessary to offset dumping.

EFFECTIVE DATE: June 16, 2003.

FOR FURTHER INFORMATION CONTACT: Patricia Tran or Robert James, AD/CVD Enforcement Group III, Import Administration, International Trade Administration, U.S. Department of Commerce, 14th Street and Constitution Avenue, NW., Washington, DC 20230, telephone: (202) 482-1121 or (202) 482-0649, respectively.

SUPPLEMENTARY INFORMATION:

Background

The Department conducted verification on March 13, 2003, through March 26, 2003. We verified the GOU's responses at the offices of the Ministry of Economy in Kiev, Ukraine on March 13 and 14, 2003; the Department's verifiers then traveled to Mariupol and Donetsk, Ukraine to verify the information submitted by Ilyich and Azovstal from March 17 through 20, 2003. Finally, the Department verified relevant information pertaining to sales made by Azovstal through an affiliated trading company, Leman Commodities. This last portion of the verification took place at Leman's sales offices in Donetsk, Ukraine on March 21, 2003, and at Leman's corporate headquarters in Geneva, Switzerland on March 24 and 25, 2003. We issued the verification report on May 2, 2003.

We invited parties to comment on our Preliminary Results. We received a case brief from Azovstal and Ilyich on May 13, 2003. Petitioners, Bethlehem Steel Corporation and United States Steel Corporation, filed their rebuttal brief on May 19, 2003.

Scope of Review

The products covered by this agreement include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this Agreement are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, the written description of the scope of this Agreement is dispositive. Specifically excluded from subject merchandise within the scope of this Agreement is grade X-70 steel plate.

Analysis of Comments Received

All issues raised in the case and rebuttals briefs by parties to this administrative review are addressed in the “Issues and Decision Memorandum” (Decision Memorandum) from Barbara Tillman, Acting Deputy Assistant Secretary for Import Administration to Joseph A. Spetrini, Acting Assistant Secretary for Import Administration, dated June 6, 2003, which is hereby adopted by this notice. Azovstal and Ilyich submitted a single comment requesting termination of the Agreement and the suspended antidumping investigation. Parties can find a complete discussion of termination of the Agreement and the underlying investigation and the corresponding recommendations in the public Decision Memorandum which is on file in room B-099 of the main Department of Commerce building. In addition, a complete version of the Decision Memorandum can be accessed directly on the Internet at http://www.ia.ita.doc.gov. The paper copy and electronic version of the Decision Memorandum are identical in content.

Final Results of Review

For the reasons described in the Decision Memorandum, the Department has determined not to terminate the Agreement or underlying investigation.

We are issuing and publishing this notice in accordance with sections 751(a)(1) and 777(i)(1) of the Tariff Act.

Dated: June 6, 2003.
Joseph A. Spetrini,
Acting Assistant Secretary for Import Administration.

[FR Doc. 03-15150 Filed 6-13-03; 8:45 am]

BILLING CODE 3510-DS-P